DEPARTMENT OF ENERGY

Federal Energy Regulatory Commission

[Docket No. ER10-116-000]

Trans Bay Cable, LLC; Notice of Institution of Section 206 Investigation and Refund Effective Date

July 30, 2010.

On July 29, 2010, the Commission issued an order that instituted an investigation in Docket No. ER10-116-000, pursuant to section 206 of the Federal Power Act (FPA), 16 U.S.C. 824e, concerning the justness and reasonableness of rates proposed by Trans Bay Cable, LLC (Trans Bay) in Docket No. ER10-116-000. Trans Bay Cable, LLC, 132 FERC 61,083 (2010).

The refund effective date in Docket No. ER10-116-000, established pursuant to section 206(b) of the FPA, will be the date of publication of this notice in the Federal Register, or the date Trans Bay's rates in Docket No. ER10-116-000 become effective, whichever is later, but in the case of the latter, in no event later than 5 months from the date of publication of this notice.

Nathaniel J. Davis, Sr.,
Deputy Secretary.

[FR Doc. 2010-19379 Filed 8-5-10; 8:45 am]

BILLING CODE 6717-01-P